DEPARTMENT OF ENERGY

Federal Energy Regulatory Commission

Combined Notice of Filings

Take notice that the Commission has received the following Natural Gas Pipeline Rate and Refund Report filings:

Docket Numbers: RP15-1062-000.

Applicants: WBI Energy Transmission, Inc.

Description: § 4(d) rate filing per 154.204: Inactive Points to be effective 7/18/2015.

Filed Date: 6/17/15.

Accession Number: 20150617-5221.

Comments Due: 5 p.m. ET 6/29/15.

Docket Numbers: RP15-1063-000.

Applicants: Black Hills Shoshone Pipeline, LLC

Description: Compliance filing per 154.203: Black Hills Shoshone Pipeline LLC Baseline Tariff Filing to be effective 7/1/2015.

Filed Date: 6/17/15.

Accession Number: 20150617-5269.

Comments Due: 5 p.m. ET 6/29/15.

Docket Numbers: RP15-1064-000.

Applicants: Honeoye Storage Corporation.

Description: Compliance filing per 154.203: Honeoye Storage Corp, Pipeline Map Compliance Filing to be effective 8/1/2015.

Filed Date: 6/18/15.

Accession Number: 20150618-5050.

Comments Due: 5 p.m. ET 6/30/15.

Docket Numbers: RP15-1065-000.

Applicants: Gulf South Pipeline Company, LP.

Description: § 4(d) rate filing per 154.204: Amendment to Neg Rate Agmt (Encana 37663-105) to be effective 6/18/2015.

Filed Date: 6/18/15.

Accession Number: 20150618-5079.

Comments Due: 5 p.m. ET 6/30/15.

Docket Numbers: CP15-519.

Applicants: TC Offshore LLC.

Description: Abbreviated Application to Abandon Part 157 Service Rate Schedule X-64 of TC Offshore LLC under CP15-519.

Filed Date: 6/18/15.

Accession Number: 20150618-5131.

Comments Due: 5 p.m. ET 7/9/15.

Docket Numbers: RP15-1066-000.

Applicants: Bobcat Gas Storage.

Description: § 4(d) rate filing per 154.204: Bobcat 2015 Cleanup Filing to be effective 7/20/2015.

Filed Date: 6/19/15.

Accession Number: 20150619-5056.

Comments Due: 5 p.m. ET 7/1/15.

Docket Numbers: RP15-1067-000.

Applicants: Egan Hub Storage, LLC.

Description: § 4(d) rate filing per 154.204: Egan 2015 Cleanup Filing to be effective 7/20/2015.

Filed Date: 6/19/15.

Accession Number: 20150619-5057.

Comments Due: 5 p.m. ET 7/1/15.

Docket Numbers: RP15-1068-000.

Applicants: East Tennessee Natural Gas, LLC.

Description: § 4(d) rate filing per 154.204: ETNG 2015 Negotiated Rate Cleanup Filing to be effective.

Filed Date: 6/19/15.

Accession Number: 20150619-5058.

Comments Due: 5 p.m. ET 7/1/15.

Docket Numbers: RP15-1069-000.

Applicants: Saltville Gas Storage Company L.L.C.

Description: § 4(d) rate filing per 154.204: SGSC 2015 Negotiated Rates Cleanup Filing to be effective 7/20/2015.

Filed Date: 6/19/15.

Accession Number: 20150619-5059.

Comments Due: 5 p.m. ET 7/1/15.

Docket Numbers: RP15-1070-000.

Applicants: WBI Energy Transmission, Inc.

Description: § 4(d) rate filing per 154.204: NAESB Revisions to be effective 7/20/2015.

Filed Date: 6/19/15.

Accession Number: 20150619-5064.

Comments Due: 5 p.m. ET 7/1/15

Docket Numbers: RP15-1071-000.

Applicants: High Point Gas Transmission, LLC.

Description: § 4(d) rate filing per 154.204: Off-System Capacity Filing to be effective 7/23/2015.

Filed Date: 6/22/15.

Accession Number: 20150622-5077.

Comments Due: 5 p.m. ET 7/6/15.

Docket Numbers: RP15-1072-000.

Applicants: Natural Gas Pipeline Company of America.

Description: § 4(d) rate filing per 154.204: BG Energy Merchants' Negotiated Rate to be effective 6/23/2015.

Filed Date: 6/22/15.

Accession Number: 20150622-5135.

Comments Due: 5 p.m. ET 7/6/15.

Docket Numbers: RP15-1073-000.

Applicants: WBI Energy Transmission, Inc.

Description: § 4(d) rate filing per 154.204: 2015 Revised Non-conforming Negotiated SA of Basin Electric to be effective 6/1/2015.

Filed Date: 6/22/15.

Accession Number: 20150622-5175.

Comments Due: 5 p.m. ET 7/6/15.

Docket Numbers: RP15-584-000.

Applicants: Rockies Express Pipeline LLC.

Description: Compliance filing per 154.501: Refund Report RP15-584 to be effective N/A0.

Filed Date: 6/22/15.

Accession Number: 20150622-5183.

Comments Due: 5 p.m. ET 7/6/15.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP15-905-001.

Applicants: Gas Transmission Northwest LLC.

Description: Compliance filing per 154.203: Compliance to RP15-905-000. to be effective 6/1/2015.

Filed Date: 6/18/15.

Accession Number: 20150618-5034.

Comments Due: 5 p.m. ET 6/30/15.

Docket Numbers: RP15-905-001.

Applicants: Gas Transmission Northwest LLC.

Description: Compliance filing per 154.203: Compliance to RP15-905-000. to be effective 6/1/2015.

Filed Date: 6/18/15.

Accession Number: 20150618-5034.

Comments Due: 5 p.m. ET 6/30/15.

Docket Numbers: RP15-276-001.

Applicants: MoGas Pipeline LLC.

Description: Compliance filing per 154.203: MoGas Pipeline LLC Compliance Filing to be effective 7/1/2015.

Filed Date: 6/19/15.

Accession Number: 20150619-5098.

Comments Due: 5 p.m. ET 7/1/15.

Docket Numbers: RP15-23-007.

Applicants: Transwestern Pipeline Company, LLC.

Description: Compliance filing per 154.203: RP15-23 Rate Case Settlement Agreement to be effective N/A.

Filed Date: 6/22/15.

Accession Number: 20150622-5000.

Comments Due: 5 p.m. ET 7/6/15.

Docket Numbers: RP15-956-002.

Applicants: Gulf South Pipeline Company, LP.

Description: Compliance filing per 154.203: Compliance Filing in RP15-596-000., et al. to be effective 5/1/2015.

Filed Date: 6/23/15.

Accession Number: 20150623-5029.

Comments Due: 5 p.m. ET 7/6/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 23, 2015.
Kimberly D. Bose,
Secretary.

[FR Doc. 2015-17440 Filed 7-15-15; 8:45 am]

BILLING CODE 6717-01-P